DEPARTMENT OF HOMELAND SECURITY

Federal Emergency Management Agency

[Docket ID: FEMA-2015-0018: OMB No. 1660-0024]

Agency Information Collection Activities: Proposed Collection; Comment Request; Federal Assistance for Offsite Radiological Emergency Preparedness and Planning

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning revising a currently approved information collection to incorporate existing information collections in use without an OMB control number representing all information collections related to FEMA Radiological Emergency Preparedness Program requirements described in 44 CFR parts 350 and 352.

DATES: Comments must be submitted on or before October 9, 2015.

ADDRESSES: To avoid duplicate submissions to the docket, please use only one of the following means to submit comments:

(1) Online. Submit comments at www.regulations.gov under Docket ID FEMA-2015-0018. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: John Schafer, Chief, Engineering and Technology Section, Professional Services and Integration, Technological Hazards Division, at 202-341-4896. You may contact the Records Management Division for copies of the proposed collection of information at email address: FEMA-Information-Collections-Management@fema.dhs.gov.

SUPPLEMENTARY INFORMATION: FEMA's Radiological Emergency Preparedness (REP) Program coordinates the national effort to provide State, Tribal and local governments with relevant and executable planning, training, and exercise guidance and policies necessary to ensure that adequate capabilities exist to prevent, protect against, mitigate the effects of, respond to, and recover from incidents involving commercial nuclear power plants (NPPs).

The REP Program assists State, Tribal and local governments in the development and conduct of off-site REP emergency planning and preparedness activities within the emergency planning zones (EPZs) of Nuclear Regulatory Commission (NRC)-licensed commercial nuclear power facilities.

Sec. 109 of the NRC Authorization Act of 1980 (Public Law 96-295) directed the NRC to establish emergency preparedness as a criterion for licensing commercial NPPs. Specifically, section 109 of Public Law 96-295 directed the NRC to establish through rulemaking, (a) standards, developed with FEMA, for the evaluation of State and local government radiological emergency planning and preparedness; and (b) a requirement that the NRC will issue operating licenses. Before issuing a license the NRC also must determine that there is (i) a State or local emergency response plan compliant with the standards developed with FEMA or (ii) in the absence of such a plan, a State, local, or utility emergency response plan that provides reasonable assurance that public health and safety is not endangered by the NPP's operation. See Public Law 96-295, § 109(b)(1)(A)-(B)). The NRC revised its regulations in Part 50 of Title 10 of the CFR to incorporate additional emergency preparedness requirements, including 16 planning standards for onsite and offsite emergency plans as required by PL 96-295. FEMA mirrors these 16 planning standards in part 350, specifically at 44 CFR 350.5.

In the communities surrounding commercial NPPs, 44 CFR 350.5(b) directs FEMA's REP Program to review offsite radiological emergency plans and preparedness. Approved plans and preparedness “must be determined to adequately protect the public health and safety by providing reasonable assurance that appropriate protective measures can be taken offsite in the event of a radiological emergency.”

FEMA defines reasonable assurance as a determination that State, Tribal, local, and utility offsite plans and preparedness are adequate to protect public health and safety in the emergency planning areas of commercial NPPs. FEMA will consider plans, procedures, personnel, training, facilities, equipment, drills, and exercises, which in its professional judgment are important to the effective implementation of protective measures offsite in the event or any incident at a commercial NPP. FEMA will make its adequacy determination, supported by other Federal agencies, as necessary, by conducting inspections, providing Staff Assistance Visits (SAVs), organizing, conducting and reviewing training, participating in, observing and evaluating drills and exercises, and by being an engaged partner with Federal, State, Tribal, and local government officials and industry stakeholders.

State, Tribal, or local government participation in offsite radiological emergency planning and preparedness is voluntary. However, participation in the REP planning and preparedness process necessitates adherence to the program requirements as set forth in 44 CFR part 350, the joint NRC/FEMA document NUREG-0645/FEMA-REP-1, Rev. 1, “Criteria for Preparation and Evaluation of Radiological Emergency Response Plans and Preparedness in Support of Nuclear Power Plants” (and supplements), and the REP Program Manual (RPM). If State, Tribal, or local governments choose not to participate in REP planning, 44 CFR part 352 outlines the licensee's obligation to develop offsite plans/procedures to protect the public health and safety in accordance with the requirements in Executive Order 12657, as amended.

Collection of Information

Title: Federal Assistance for Offsite Radiological Emergency Preparedness and Planning.

Type of Information Collection: Revision of a currently approved information collection.

OMB Number: 1660-0024.

FEMA Forms: There are no forms. There are no forms for this collection; rather the regulatory text details the content in which information is transmitted to FEMA.

Abstract: The intent of this request is to revise a currently approved information collection to incorporate existing information collections in use without an OMB control number representing all information collections related to FEMA REP Program requirements described in 44 CFR parts 350 and 352. Currently, only the 44 CFR part 352 collections is included under OMB Control #1660-0024.

Affected Public: State, Local or Tribal Government; and business and other for profits.

Number of Respondents: 153.

Number of Responses: 153.

Estimated Total Annual Burden Hours: 5,321.

Estimated Cost: $216,219.98.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 31, 2015.
Janice Waller,
Acting Director, Records Management Division, Mission Support, Federal Emergency Management Agency, Department of Homeland Security.

[FR Doc. 2015-19591 Filed 8-7-15; 8:45 am]

BILLING CODE 9110-21-P